DEPARTMENT OF AGRICULTURE

Foreign Agricultural Service

Notice of a Request for Extension of a Currently Approved Information Collection

AGENCY: Foreign Agricultural Service, USDA.

ACTION: Notice and request for comments.

SUMMARY: In accordance with the Paperwork Reduction Act, this notice announces the Foreign Agricultural Service's intention to request an extension of a currently approved information collection relating to the issuance of certificates of quota eligibility (CQEs) required to enter sugar and sugar-containing products under tariff-rate quotas (TRQs) into the United States.

DATES: Comments on this notice must be received by no later than February 27, 2023 to be assured of consideration.

ADDRESSES: You may send comments, identified by Office of Management and Budget (OMB) Control Number 0551-0014, by any of the following methods:

• Federal eRulemaking Portal: http://www.regulations.gov. This portal enables respondents to enter short comments or attach a file containing lengthier comments.

• Email: William.Janis@usda.gov. Include OMB Control number 0551-0014 in the subject line of the message.

• Mail, hand delivery, or courier: William Janis, Multilateral Affairs Division, Trade Policy and Geographic Affairs, Foreign Agricultural Service, U.S. Department of Agriculture, Room 5550, Stop 1070, 1400 Independence Ave. SW, Washington, DC 20250-1070.

Instructions: All submissions received must include the agency names and OMB Control Number for this notice. All comments received will be posted without change to http://www.regulations.gov, including any personal information provided.

FOR FURTHER INFORMATION CONTACT: William.Janis@usda.gov, 202-720-2194, William.Janis@usda.gov.

SUPPLEMENTARY INFORMATION: Title: Certificates of Quota Eligibility.

OMB Number: 0551-0014.

Expiration Date of Approval: June 30, 2023.

Type of Request: Extension of a currently approved information collection.

Abstract: Additional U.S. note 5 to Chapter 17 of the Harmonized Tariff Schedule of the United States (HTS), established by Presidential Proclamation 6763 of December 1994, authorizes the Secretary of Agriculture to establish for each fiscal year the quantity of sugars, syrups, and molasses that may be entered at the lower tariff rates of TRQs established under the Uruguay Round of multilateral trade negotiations as reflected in the provisions of Schedule XX (United States), annexed to the Marrakesh Agreement Establishing the World Trade Organization (WTO).

Pursuant to 15 CFR part 2011, Allocation of Tariff-Rate Quota on Imported Sugars, Syrups, and Molasses, Subpart A—Certificate of Quota Eligibility, CQEs are issued to foreign countries that have been allocated a share of the WTO sugar TRQ. This regulation provides for the issuance of CQEs by the Secretary of Agriculture and in general prohibits sugar entered under the WTO TRQ from being imported into the United States or withdrawn from a warehouse for consumption at the in-quota duty rates unless such sugar is accompanied by a valid CQE.

In addition, CQEs are required for the import of sugar into the United States under the sugar TRQs established under the U.S.—Colombia, U.S.—Panama, and U.S.—Peru Trade Promotion Agreements, as set forth in 19 U.S.C. 3805.

CQEs for the aforementioned WTO and free trade agreement (FTA) sugar TRQs are distributed to foreign countries by the Senior Director of the Multilateral Affairs Division, Foreign Agriculture Service, or designee. The distribution of CQEs is in such amounts and at such times as the Senior Director determines are appropriate to enable the foreign country to fill its quota allocation for such quota period in a reasonable manner, taking into account harvesting periods, U.S. import requirements, and other relevant factors. The information required to be collected on the CQE is used to monitor and control the imports of products subject to the WTO and FTA sugar TRQs. A valid CQE, duly executed and issued by the Certifying Authority of the foreign country, is required for eligibility to enter the products into U.S. customs territory under the TRQs.

Estimate of burden: The public reporting burden for the collection directly varies with the number of CQEs issued.

Type of Respondents: Foreign governments.

Estimated Number of WTO Respondents: 30.

Estimated Number of FTA Respondents: 2.

Estimated Number of Responses per Respondent: 124.

Estimated Total Annual Reporting Burden: 3,968 hours.

Copies of this information collection can be obtained from Dacia Rogers, the Agency Information Collection Coordinator, at Dacia.Rogers@usda.gov.

Request for Comments: Send comments regarding (a) whether the proposed collection of information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques or other forms of information technology.

All comments received in response to this notice, including names and addresses when provided, will be a matter of public record. Comments will be available without change, including any personal information provided, for inspection online at http://www.regulations.gov and at the mail address listed above between 8 a.m. and 4:30 p.m., Monday through Friday, except holidays.

Comments will be summarized and included in the submission for OMB approval.

Persons with disabilities who require an alternative means for communication of information (Braille, large print, audiotape, etc.) should contact FAS-ReasonableAccommodation@usda.gov or Felice Robinson (Senior Reasonable Accommodations Specialist), Felice.Robinson@usda.gov.

Daniel Whitley,
Administrator, Foreign Agricultural Service.

[FR Doc. 2022-28117 Filed 12-23-22; 8:45 am]

BILLING CODE 3410-10-P